NATIONAL ARCHIVES AND RECORDS ADMINISTRATION

Office of Government Information Services

[NARA-2024-039]

Freedom of Information Act (FOIA) Advisory Committee

AGENCY: Office of Government Information Services (OGIS), National Archives and Records Administration (NARA).

ACTION: Notice of solicitation for committee member nominations.

SUMMARY: The National Archives and Records Administration (NARA) seeks member nominations for the sixth term of the Freedom of Information Act (FOIA) Advisory Committee (Committee) (2024-2026 term). The Committee serves as a deliberative body to study the FOIA landscape across the executive branch and advise the Archivist of the United States on improvements to the administration of FOIA.

DATES: We must receive nominations for Committee members no later than 5:00 p.m. ET on Monday July 15, 2024.

ADDRESSES: Email nominations to OGIS at foia-advisory-committee@nara.gov. If you are unable to submit by email, please contact Kirsten Mitchell at the contact information below.

FOR FURTHER INFORMATION CONTACT: Kirsten Mitchell, Designated Federal Officer for this committee, by email at foia-advisory-committee@nara.gov, or by telephone at 202-741-5770.

SUPPLEMENTARY INFORMATION:

Background

The National Archives and Records Administration (NARA) established the Freedom of Information Act (FOIA) Advisory Committee (Committee) in accordance with the United States Second Open Government National Action Plan, released on December 5, 2013. The Committee operates under the directive in FOIA, 5 U.S.C. 552(h)(2)(C), that the Office of Government Information Services (OGIS) within NARA “identify procedures and methods for improving compliance” with FOIA. The Committee is governed by the provisions of the Federal Advisory Committee Act, as amended, 5 U.S.C. 10.

II. Charter and Membership Appointment Terms

NARA initially chartered the Committee on May 20, 2014. The Archivist of the United States renewed the Committee's charter for a sixth term on April 26, 2024, and certified that renewing the Committee is in the public interest. Member appointment terms run for two years, concurrent with the Committee charter.

III. Committee Membership

The 2024-2026 FOIA Advisory Committee will consist of no more than 20 individuals who will include a range of Government and non-Government representatives. Members are selected in accordance with the charter. Appointments to the Committee will consider factors such as geographic diversity; diversity in size of company or organization to be represented; and diversity in representations of business and industry, academic institutions, non-profit and non-governmental organizations, and other stakeholders in accordance with the charter.

Government members will include, at a minimum: Three FOIA professionals from Cabinet-level Departments; three FOIA professionals from non-Cabinet agencies; the Director of the Department of Justice's Office of Information Policy or their designee; and the Director of OGIS or their designee. Non-Governmental members will include, at a minimum: Two individuals representing the interests of non-Governmental organizations that advocate on FOIA matters; one individual representing the interests of FOIA requesters who qualify for the “all other” FOIA requester fee category; one individual representing the interests of requesters who qualify for the “news media” FOIA requester fee category; one individual representing the interests of requesters who qualify for the “commercial” FOIA requester fee category; one individual representing the interests of historians and history-related organizations; and one individual representing the interests of academia.

IV. Committee Members' Responsibilities

All Committee members are expected to attend a minimum of eleven public meetings during the two-year Committee term. Meetings will be held in-person or virtually. All Committee members are expected to volunteer for one or more working subcommittees that will meet at various times during the two-year term. The first meeting of the 2024-2026 Committee term is scheduled for Monday, September 9, 2024 at 10:00 a.m. ET in the William G. McGowan Theater at the National Archives, 700 Pennsylvania NW, Washington, DC. Meeting notices will be published in the Federal Register.

V. Nomination Information

All nominations for Committee membership must include the following information:

1. If you are self-nominating: Your name, title, relevant contact information (including telephone and email address); your resumé or curriculum vitae; and the representative role for which you wish to be considered.

2. If you are nominating another individual: The nominee's name, title, and relevant contact information; their resumé or curriculum vitae; and the representative role for which you wish your nominee to be considered.

3. For both self-nominations and nominations by other individuals: Your submission must include a statement (not to exceed one page) highlighting the contributions the nominee would make as a member of the Committee.

The Archivist of the United States will review the nominations and make final appointments prior to the first Committee meeting in September. OGIS will notify the appointees in writing.

Merrily Harris,
Designated Committee Management Officer.

[FR Doc. 2024-12398 Filed 6-5-24; 8:45 am]

BILLING CODE 7515-01-P